DEPARTMENT OF THE TREASURY

Submission for OMB Review; Comment Request

December 17, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 4, 2002.

Internal Revenue Service

OMB Number: 1545-1554.

Form Number: IRS Form MTQ/941.

Type of Review: Extension.

Title: Montana Quarterly Tax Report/Employer's Quarterly Federal Tax Return.

Description: Form MTQ/941 is used by employers to report payments made to employees subject to income and Social Security and Medicare taxes and the amounts of these taxes. The state of Montana and the Simplified Tax and Wage Reporting System (STAWRS) have formed a partnership to explore the potential of combining Montana's quarterly reports for state withholding, Old Fund Liability tax, and Unemployment Insurance with the Employer's Quarterly Federal Tax Return (Form 941). One form will satisfy both State and Federal requirements and will make employer filing faster and easier.

Respondents: Business or other for-profit, Individual or households, Not-for-profit institutions, Federal Government, State, Local or Tribal Government.

Estimated Number of Respondents/Recordkeepers: 710.

Estimated Burden Hours Per Respondent/Recordkeeper:

For Form 941:

Recordkeeping—9 hr., 34 min.

Learning about the law or the form—30 min.

Preparing the form—40 min.

Copying, assembling, and sending the form to the IRS—16 min.

For Form 941 TeleFile:

Recordkeeping—5 hr., 16 min.

Learning about the law or the Tax Record—18 min.

Preparing the Tax Record—23 min.

TeleFile phone call—11 min.

Frequency of Response: Quarterly.

Estimated Total Reporting/Recordkeeping Burden: 30,661 hours.

Clearance Officer: George Freeland, Internal Revenue Service, Room 5577, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 02-168 Filed 1-3-02; 8:45 am]

BILLING CODE 4830-01-P